DEPARTMENT OF HEALTH AND HUMAN SERVICES

Health Resources and Services Administration

National Vaccine Injury Compensation Program; List of Petitions Received

AGENCY: Health Resources and Services Administration, HHS.

ACTION: Notice.

SUMMARY: The Health Resources and Services Administration (HRSA) is publishing this notice of petitions received under the National Vaccine Injury Compensation Program (“the Program”), as required by Section 2112(b)(2) of the Public Health Service (PHS) Act, as amended. While the Secretary of Health and Human Services is named as the respondent in all proceedings brought by the filing of petitions for compensation under the Program, the United States Court of Federal Claims is charged by statute with responsibility for considering and acting upon the petitions.

FOR FURTHER INFORMATION CONTACT: For information about requirements for filing petitions, and the Program in general, contact the Clerk, United States Court of Federal Claims, 717 Madison Place, NW., Washington, DC 20005; (202) 219-9657. For information on HRSA's role in the Program, contact the Director, National Vaccine Injury Compensation Program, 5600 Fishers Lane, Room 16C-17, Rockville, MD 20857; (301) 443-6593.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of Health and Human Services, who is named as the respondent in each proceeding. The Secretary has delegated his responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at Section 2114 of the PHS Act or as set forth at 42 CFR 100.3, as applicable. This Table lists for each covered childhood vaccine the conditions which will lead to compensation and, for each condition, the time period for occurrence of the first symptom or manifestation of onset or of significant aggravation after vaccine administration. Compensation may also be awarded for conditions not listed in the Table and for conditions that are manifested after the time periods specified in the Table, but only if the petitioner shows that the condition was caused by one of the listed vaccines.

Section 2112(b)(2) of the PHS Act, 42 U.S.C. 300aa-12(b)(2), requires that the Secretary publish in the Federal Register a notice of each petition filed. Set forth below is a list of petitions received by HRSA on July 1, 2002, through September 30, 2002.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

(a) “Sustained, or had significantly aggravated, any illness, disability, injury, or condition not set forth in the Table but which was caused by” one of the vaccines referred to in the Table, or

(b) “Sustained, or had significantly aggravated, any illness, disability, injury, or condition set forth in the Table the first symptom or manifestation of the onset or significant aggravation of which did not occur within the time period set forth in the Table but which was caused by a vaccine” referred to in the Table.

This notice will also serve as the special master's invitation to all interested persons to submit written information relevant to the issues described above in the case of the petitions listed below. Any person choosing to do so should file an original and three (3) copies of the information with the Clerk of the U.S. Court of Federal Claims at the address listed above (under the heading “For Further Information Contact”), with a copy to HRSA addressed to Director, Division of Vaccine Injury Compensation Program, Office of Special Programs, 5600 Fishers Lane, Room 16C-17, Rockville, MD 20857. The Court's caption (Petitioner's Name v. Secretary of Health and Human Services) and the docket number assigned to the petition should be used as the caption for the written submission.

Chapter 35 of title 44, United States Code, related to paperwork reduction, does not apply to information required for purposes of carrying out the Program.

List of Petitions

1. Carla Lowry on behalf of Tyler Lowry; Boston, Massachusetts; Court of Federal Claims Number 02-0753V

2. Scott Bagby on behalf of Trenton Bagby; Adrian, Missouri; Court of Federal Claims Number 02-0754V

3. Allison and Kenneth Byrd on behalf of Noah Byrd; California, Maryland; Court of Federal Claims Number 02-0755V

4. Barbara and William Whitman on behalf of Christian Whitman; Taylor, Pennsylvania; Court of Federal Claims Number 02-0763V

5. Kimberly Brox on behalf of Mary Kate Brox; Boston, Massachusetts; Court of Federal Claims Number 02-0765V

6. Kathy Maynard on behalf of Mikayla Maynard; Lecanto, Florida; Court of Federal Claims Number 02-0766V

7. Sandra Friedman; Shorewood, Wisconsin; Court of Federal Claims Number 02-0770V

8. Rhonda and Robert Evans on behalf of Kimberly Ann Evans; Fayetteville, North Carolina; Court of Federal Claims Number 02-0771V

9. Lisa and John Hedin on behalf of Jason Hedin; Austell, Georgia; Court of Federal Claims Number 02-0774V

10. AnnMarie and H. Dean Moore on behalf of Kathryn Moore; Philadelphia, Pennsylvania; Court of Federal Claims Number 02-0777V

11. Susan Iannuzzi on behalf of Peter Iannuzzi; Boston, Massachusetts; Court of Federal Claims Number 02-0780V

12. Alyson Feinberg on behalf of Jacob Feinberg; Boston, Massachusetts; Court of Federal Claims Number 02-0781V

13. Charles Wall on behalf of Christopher Wall; Boston, Massachusetts; Court of Federal Claims Number 02-0782V

14. Charles Wall on behalf of Brandon Wall; Boston, Massachusetts; Court of Federal Claims Number 02-0783V

15. Joanella Cannell on behalf of Margaret Cannell; Vienna, Virginia; Court of Federal Claims Number 02-0785V

16. Sha and Jason Hurst on behalf of Sarah Lynn Hurst; Montgomery, Alabama; Court of Federal Claims Number 02-0786V

17. Elizabeth and John Setnes on behalf of Austin J. Setnes; Shakopee, Minnesota; Court of Federal Claims Number 02-0791V

18. Peyton Kotz on behalf of Jennifer Kotz; LeGrande, Oregon; Court of Federal Claims Number 02-0798V

19. Jane Lutz; Pittsburgh, Pennsylvania; Court of Federal Claims Number 02-0799V

20. Michelle Iddings on behalf of Carson Iddings; Boston, Massachusetts; Court of Federal Claims Number 02-0801V

21. Jennifer Hillman on behalf of Emmanuel Hillman; Boston, Massachusetts; Court of Federal Claims Number 02-0802V

22. Christina Hamilton on behalf of Michael Hamilton; Boston, Massachusetts; Court of Federal Claims Number 02-0803V

23. Melanie Gorneault on behalf of Ryan Gorneault; Boston, Massachusetts; Court of Federal Claims Number 02-0804V

24. Tiffany Fleming on behalf of Connor Fleming; Boston, Massachusetts; Court of Federal Claims Number 02-0805V

25. Nancy Flaherty on behalf of Kaitlin Flaherty; Boston, Massachusetts; Court of Federal Claims Number 02-0806V

26. Heather Flaherty on behalf of Aidan Flaherty; Boston, Massachusetts; Court of Federal Claims Number 02-0807V

27. Alice Fitzmorris on behalf of Andrew Fitzmorris; Boston, Massachusetts; Court of Federal Claims Number 02-0808V

28. Katherine Fontanez on behalf of Matteo Figueroa; Boston, Massachusetts; Court of Federal Claims Number 02-0809V

29. Denise English on behalf of Jack English; Boston, Massachusetts; Court of Federal Claims Number 02-0810V

30. Carmen Beniquez on behalf of Kyle Downs; Boston, Massachusetts; Court of Federal Claims Number 02-0811V

31. Heather Dillon on behalf of David Dillon; Boston, Massachusetts; Court of Federal Claims Number 02-0812V

32. Stacy Daniel on behalf of Christopher Daniel; Boston, Massachusetts; Court of Federal Claims Number 02-0813V

33. Kimberlene Cuttler on behalf of Sarah Cuttler; Boston, Massachusetts; Court of Federal Claims Number 02-0814V

34. Margaret Bowman on behalf of Joshua Bowman; Boston, Massachusetts; Court of Federal Claims Number 02-0815V

35. Wendy Barry on behalf of Max Barry; Boston, Massachusetts; Court of Federal Claims Number 02-0816V

36. Amy Thames on behalf of Moses Thames; Boston, Massachusetts; Court of Federal Claims Number 02-0817V

37. Cassie Stoner on behalf of Carson Stoner; Boston, Massachusetts; Court of Federal Claims Number 02-0818V

38. Kim Stewart on behalf of Heath Stewart; Boston, Massachusetts; Court of Federal Claims Number 02-0819V

39. Kerri Speights on behalf of Brandon Speights; Boston, Massachusetts; Court of Federal Claims Number 02-0820V

40. Lynn Sparling on behalf of Deanna Sparling; Boston, Massachusetts; Court of Federal Claims Number 02-0821V

41. Jennifer Shearer on behalf of Dean Shearer; Boston, Massachusetts; Court of Federal Claims Number 02-0822V

42. Richard Schultz on behalf of Andreas Schultz; Boston, Massachusetts; Court of Federal Claims Number 02-0823V

43. Christina Schack on behalf of Dylan Schack; Boston, Massachusetts; Court of Federal Claims Number 02-0824V

44. Laura Santos on behalf of Phillip Santos; Boston, Massachusetts; Court of Federal Claims Number 02-0825V

45. Elsie Russell on behalf of Clay Russell; Boston, Massachusetts; Court of Federal Claims Number 02-0826V

46. Sherry Putz on behalf of Brent Putz; Boston, Massachusetts; Court of Federal Claims Number 02-0827V

47. Jess Pawlak on behalf of Trevor Pawlak; Boston, Massachusetts; Court of Federal Claims Number 02-0828V

48. Ginger McGrady on behalf of Ethan McGrady; Boston, Massachusetts; Court of Federal Claims Number 02-0829V

49. Susan McGlone on behalf of Ty McGlone; Boston, Massachusetts; Court of Federal Claims Number 02-0830V

50. Julie Maryjanowski on behalf of William Maryjanowski; Boston, Massachusetts; Court of Federal Claims Number 02-0831V

51. Wendie Mancuso on behalf of Daniel Mancuso; Boston, Massachusetts; Court of Federal Claims Number 02-0832V

52. Jennifer Larson on behalf of Caden Larson; Boston, Massachusetts; Court of Federal Claims Number 02-0833V

53. Julie Johnston on behalf of Hannah Johnston; Boston, Massachusetts; Court of Federal Claims Number 02-0834V

54. Bryan Jaeger on behalf of Brandon Jaeger; Boston, Massachusetts; Court of Federal Claims Number 02-0835V

55. Kathleen Billete-Saul on behalf of Patrick Billete; Boston, Massachusetts; Court of Federal Claims Number 02-0836V

56. Bryan Jaeger on behalf of Cameron Jaeger; Boston, Massachusetts; Court of Federal Claims Number 02-0837V

57. Doug Hamilton and Amy Currie on behalf of Edgar Hamilton; Melbourne, Florida; Court of Federal Claims Number 02-0838V

58. Lucine and George Hawn on behalf of Samantha Hawn; Alexandria, Virginia; Court of Federal Claims Number 02-0841V

59. Nancy and John Decharinte on behalf of Alex Decharinte; Houston, Texas; Court of Federal Claims Number 02-0842V

60. Nancy and John Decharinte on behalf of Kevin Decharinte; Houston, Texas; Court of Federal Claims Number 02-0843V

61. Maryann and Juan Garcia on behalf of Jared Adam Garcia; Houston, Texas; Court of Federal Claims Number 02-0844V

62. Patti and Gary Journey on behalf of Drew Journey; Houston, Texas; Court of Federal Claims Number 02-0845V

63. Lela Elizabeth Lansaw on behalf of Eric Gage Lansaw; Houston, Texas; Court of Federal Claims Number 02-0846V

64. Maria and Antonio Longoria on behalf of Brian Longoria; Houston, Texas; Court of Federal Claims Number 02-0847V

65. Sandi and Gregory Peerman on behalf of Bret Peerman; Houston, Texas; Court of Federal Claims Number 02-0848V

66. Mary and Curtis Richards on behalf of Leah Richards; Houston, Texas; Court of Federal Claims Number 02-0849V

67. Diane and Shawn Sullivan on behalf of Dylan Sullivan; Houston, Texas; Court of Federal Claims Number 02-0850V

68. Amy McCabe and Charles Tucker, Jr. on behalf of Charles Tucker, III; Houston, Texas; Court of Federal Claims Number 02-0851V

69. Joann and Johnny Vega on behalf of Amber Vega; Houston, Texas; Court of Federal Claims Number 02-0852V

70. Laurie Ann Caballerio on behalf of Michael A. Zendejas-Lanpher; Houston, Texas; Court of Federal Claims Number 02-0853V

71. Andrea Garbutt and Clifford Ellison on behalf of Kendal Ellison; Houston, Texas; Court of Federal Claims Number 02-0854V

72. Delana Dee and Cary Paul Wilson on behalf of Robert Wilson; Houston, Texas; Court of Federal Claims Number 02-0855V

73. Janet Abruzzo on behalf of Anna Rose Abruzzo; Boston, Massachusetts; Court of Federal Claims Number 02-0857V

74. Kelly Todd on behalf of Kyle Todd; Boston, Massachusetts; Court of Federal Claims Number 02-0858V

75. Angela Jones on behalf of Langston Jones; Boston, Massachusetts; Court of Federal Claims Number 02-0859V

76. Nancy Galgano on behalf of Carmen Galgano; Boston, Massachusetts; Court of Federal Claims Number 02-0860V

77. Tricia Hasbrook on behalf of Arnold John Hasbrook; Boston, Massachusetts; Court of Federal Claims Number 02-0861V

78. Marc Gamberdella on behalf of Genaro Gamberdella; Boston, Massachusetts; Court of Federal Claims Number 02-0862V

79. Lawrence Smith on behalf of Logan Smith; Boston, Massachusetts; Court of Federal Claims Number 02-0863V

80. Malkah Pessel-Berger and Aryeh Berger on behalf of Chana Rochel Berger; Brooklyn, New York; Court of Federal Claims Number 02-0865V

81. Karen Meenan on behalf of Chelsea Meenan; Acton, Massachusetts; Court of Federal Claims Number 02-0866V

82. Shari and Jeffrey Willingham on behalf of Zachary Willingham; Hiram, Georgia; Court of Federal Claims Number 02-0867V

83. Robin and Michael Wilson on behalf of Destiny Wilson; Savannah, Georgia; Court of Federal Claims Number 02-0868V

84. Joann and John Bowes on behalf of Andrew Bowes; Raleigh, North Carolina; Court of Federal Claims Number 02-0869V

85. Tracy and Wayne Hill on behalf of Wayne Hill, Jr.; Goldsboro, North Carolina; Court of Federal Claims Number 02-0870V

86. Ying and Va Yang on behalf of Ryan Yang; Hickory, North Carolina; Court of Federal Claims Number 02-0871V

87. Willie Bell and Gwendolyn Williams on behalf of Travis Bell; Rocky Mount, North Carolina; Court of Federal Claims Number 02-0872V

88. Amy and Stacy Carson on behalf of Kit Carson; Asheville, North Carolina; Court of Federal Claims Number 02-0873V

89. Broderick Leonard and Tamara Tolbert on behalf of Broderick Tyren Leonard; Montgomery, Alabama; Court of Federal Claims Number 02-0874V

90. Melissa and James Gray on behalf of Tanner Gray; Fayetteville, North Carolina; Court of Federal Claims Number 02-0875V

91. Sharmaine and David Brown on behalf of Marcus Brown; Watertown, New York; Court of Federal Claims Number 02-0876V

92. Virginia Hall and Thurman Richard on behalf of Joshua Dahles Hall; Salisbury, North Carolina; Court of Federal Claims Number 02-0877V

93. Amy and Timothy Blankenbeckler on behalf of Tanner Lee Blankenbeckler; Salisbury, North Carolina; Court of Federal Claims Number 02-0878V

94. Tara Bullard on behalf of Nicole Taylor Smith; Senatobia, Mississippi; Court of Federal Claims Number 02-0881V

95. Annie Wiggins on behalf of Aristotle Tellis; Alexandria, Virginia; Court of Federal Claims Number 02-0882V

96. Namuliza and Bofotola Akemba on behalf of Esha Akemba; Alexandria, Virginia; Court of Federal Claims Number 02-0883V

97. Pamela and Daniel Korpal on behalf of William Palmer Korpal; Alexandria, Virginia; Court of Federal Claims Number 02-0884V

98. Ernest Pugh and Linda Davis on behalf of Ernest Pugh, IV; Gretna, Louisiana; Court of Federal Claims Number 02-0885V

99. Sheri and Cary Steffens on behalf of Donovan Steffens; Philadelphia, Pennsylvania; Court of Federal Claims Number 02-0886V

100. Donna Zittrouer on behalf of Andrew Zittrouer; Vienna, Virginia; Court of Federal Claims Number 02-0887V

101. Mathew Snyder on behalf of John Snyder; Vienna, Virginia; Court of Federal Claims Number 02-0888V

102. Douglas Cooper on behalf of Justin Cooper; Vienna, Virginia; Court of Federal Claims Number 02-0889V

103. Robert Blackwell on behalf of Timothy Blackwell; Vienna, Virginia; Court of Federal Claims Number 02-0890V

104. Maria Corrales on behalf of Dean James Kivotidis; Vienna, Virginia; Court of Federal Claims Number 02-0891V

105. Rose Lunsford on behalf of Matthew Lunsford; Vienna, Virginia; Court of Federal Claims Number 02-0892V

106. Arlisha Ross on behalf of Sarabian Ross; Jackson, Mississippi; Court of Federal Claims Number 02-0896V

107. Judy and Gary Johnson on behalf of Stefan Ray Johnson; Hayward, California; Court of Federal Claims Number 02-0897V

108. Connie and Peter Koehn on behalf of Joseph Koehn; Minneapolis, Minnesota; Court of Federal Claims Number 02-0899V

109. Laneen and Cornelius Graham on behalf of Cornelius Stefon Graham; Rockingham, North Carolina; Court of Federal Claims Number 02-0900V

110. Jennifer Reno on behalf of Matthew Reno; Boston, Massachusetts; Court of Federal Claims Number 02-0901V

111. Deborah Martin on behalf of Ryan Soper; Boston, Massachusetts; Court of Federal Claims Number 02-0902V

112. Isaak Tiske on behalf of Clarence Tiske; Boston, Massachusetts; Court of Federal Claims Number 02-0903V

113. Rebecca Grimes on behalf of Joshua Grimes; Boston, Massachusetts; Court of Federal Claims Number 02-0904V

114. Rebecca Grimes on behalf of Nathan Grimes; Boston, Massachusetts; Court of Federal Claims Number 02-0905V

115. Fern Henderson on behalf of William Henderson; Boston, Massachusetts; Court of Federal Claims Number 02-0906V

116. Edward Sollinger on behalf of Julia Sollinger; Boston, Massachusetts; Court of Federal Claims Number 02-0907V

117. Jennifer McKean on behalf of Ryan McKean; Boston, Massachusetts; Court of Federal Claims Number 02-0908V

118. Michelle Kwiatkowski on behalf of Jonathan Kwiatkowski; Boston, Massachusetts; Court of Federal Claims Number 02-0909V

119. Tawnya Allen on behalf of Jordan Allen; Temecula, California; Court of Federal Claims Number 02-0913V

120. Cindy and Jeffrey Mays on behalf of Kyle Mays; Temecula, California; Court of Federal Claims Number 02-0914V

121. Anna and Brent Clawson on behalf of Cameron James Clawson; Temecula, California; Court of Federal Claims Number 02-0915V

122. Lesa and Kenneth Booth on behalf of Jeffrey T. Booth; Houston, Texas; Court of Federal Claims Number 02-0916V

123. Gary Bell and Christina Messick on behalf of Chase T. Bell; Houston, Texas; Court of Federal Claims Number 02-0917V

124. Arthur Gonyea and Norma Jean Fowler on behalf of Jeffrey Gonyea; Houston, Texas; Court of Federal Claims Number 02-0918V

125. Lilia and David Rosell on behalf of Katie B. Rosell; Houston, Texas; Court of Federal Claims Number 02-0919V

126. Linda and Kerry Weinmaster on behalf of Adam Weinmaster; Houston, Texas; Court of Federal Claims Number 02-0920V

127. Carolyn and Robert Clarke on behalf of Christopher Ryan Clarke; Logan, West Virginia; Court of Federal Claims Number 02-0921V

128. Tina and Brian Flanagan on behalf of Patrick James Joseph Flanagan; Flushing, New York; Court of Federal Claims Number 02-0922V

129. Christine and Norman Eisengart on behalf of Nicholas Connor Eisengart; Ashtabula, Ohio; Court of Federal Claims Number 02-0923V

130. Charles Mensah; Bronx, New York; Court of Federal Claims Number 02-0924V

131. Melissa and Frank Kudasik on behalf of Hunter Frank Kudasik; Aberdeen, Washington; Court of Federal Claims Number 02-0925V

132. John Aaron Nagel on behalf of Clay Harris Nagel; Boston, Massachusetts; Court of Federal Claims Number 02-0927V

133. Mary Browning on behalf of Mauve Brynildson; Boston, Massachusetts; Court of Federal Claims Number 02-0928V

134. Mary Browning on behalf of Katherine Brynildson; Boston, Massachusetts; Court of Federal Claims Number 02-0929V

135. Lory and Calvin Shaw on behalf of Jason Shaw; Smithfield, North Carolina; Court of Federal Claims Number 02-0930V

136. Victor Heidelberg on behalf of Destiny Heidelberg; Laurel, Mississippi; Court of Federal Claims Number 02-0931V

137. Barbara Winnicki on behalf of Matthew Winnicki; Boston, Massachusetts; Court of Federal Claims Number 02-0935V

138. Murray Richelson on behalf of Elisheva Richelson; Boston, Massachusetts; Court of Federal Claims Number 02-0936V

139. Mohammad Saadatzadeh and Sholeh Bijang on behalf of Tirajeh Saadatzadeh; Indianapolis, Indiana; Court of Federal Claims Number 02-0937V

140. Judith and Michael Ruggiero on behalf of Nicholas A. Ruggiero; Indianapolis, Indiana; Court of Federal Claims Number 02-0938V

141. Theresa Abel on behalf of Brittany Dollins; Peoria, Illinois; Court of Federal Claims Number 02-0947V

142. Kita Hughes on behalf of Marlin Noel Hughes; Detroit, Michigan; Court of Federal Claims Number 02-0949V

143. Sharon and Scott Blair on behalf of Aubreianna Blair; Vienna, Virginia; Court of Federal Claims Number 02-0952V

144. Marie and David Bennett on behalf of Austin Rowe Bennett; Seattle, Washington; Court of Federal Claims Number 02-0954V

145. Elizabeth and Thomas Duggan on behalf of Justine Duggan; Rockville Center, New York; Court of Federal Claims Number 02-0955V

146. Lori and Edward Bailey on behalf of Kaylin Ruth Bailey; Logan, West Virginia; Court of Federal Claims Number 02-0956V

147. Cynthia McCullough on behalf of Kearney Rose McCullough; Worcester, Massachusetts; Court of Federal Claims Number 02-0957V

148. Dave Mackelprang and Mildred Floyd on behalf of Devin Michael Mackelprang; Denver, Colorado; Court of Federal Claims Number 02-0958V

149. Laura and Aaron Misenhelter on behalf of Aaron Misenhelter; Charleston, South Carolina; Court of Federal Claims Number 02-0960V

150. Samara Brown on behalf of Dorian Herriott; Sumter, South Carolina; Court of Federal Claims Number 02-0961V

151. Dawn and Robert Thomas on behalf of Robert C. Thomas; Lexington, South Carolina; Court of Federal Claims Number 02-0962V

152. Diane Dininno and Charles Wilson on behalf of Trystan Wilson Graham; Fayetteville, North Carolina; Court of Federal Claims Number 02-0963V

153. Carolyn and Jose Nogal on behalf of Mirella Nogal; Newton Grove, North Carolina; Court of Federal Claims Number 02-0964V

154. Leslie and Robert Weed on behalf of Lanier Rose Weed; Melbourne, Florida; Court of Federal Claims Number 02-0965V

155. Katherine and David Souers on behalf of Benjamin Thomas Souers; Melbourne, Florida; Court of Federal Claims Number 02-0966V

156. Sharon Lang; Chicago, Illinois; Court of Federal Claims Number 02-0968V

157. Tammy Jo Dettman on behalf of Brandon Edward Barton; Houston, Texas; Court of Federal Claims Number 02-0973V

158. Aja Richardson on behalf of Kylie Mae Cotton-Richardson; Houston, Texas; Court of Federal Claims Number 02-0974V

159. Maggie and Leif Taubenberger on behalf of Max Friedrich Taubenberger; Houston, Texas; Court of Federal Claims Number 02-0975V

160. Leticia Garcia on behalf of Jacob Matthew Garcia; San Jose, California; Court of Federal Claims Number 02-0976V

161. Ora Robinson on behalf of James Marcus Robinson; Denver, Colorado; Court of Federal Claims Number 02-0977V

162. Michelle and Mark Dunham on behalf of Nicholas Ryan Dunham; Melbourne, Florida; Court of Federal Claims Number 02-0980V

163. Alicia and Blane Meeks on behalf of Madison L. Meeks; Melbourne, Florida; Court of Federal Claims Number 02-0981V

164. Jennifer Mullen on behalf of Sean Mullen; Boston, Massachusetts; Court of Federal Claims Number 02-0983V

165. Michelle Avery on behalf of Justin Avery; Boston, Massachusetts; Court of Federal Claims Number 02-0984V

166. Jessica Ozment on behalf of Victoria Ozment; Boston, Massachusetts; Court of Federal Claims Number 02-0985V

167. Robin Cline on behalf of Ryan Rothrock; Boston, Massachusetts; Court of Federal Claims Number 02-0986V

168. Victoria Miller on behalf of Zachery Miller; Boston, Massachusetts; Court of Federal Claims Number 02-0987V

169. Kimberly Melvin on behalf of Najee Melvin; Boston, Massachusetts; Court of Federal Claims Number 02-0988V

170. Charlene Russell on behalf of Joseph Russell; Boston, Massachusetts; Court of Federal Claims Number 02-0989V

171. Myra McKeever on behalf of Cyrish McKeever; Boston, Massachusetts; Court of Federal Claims Number 02-0990V

172. Dawn Roark on behalf of Noah Roark; Boston, Massachusetts; Court of Federal Claims Number 02-0991V

173. Monika Steinborn on behalf of Trevor Rose; Boston, Massachusetts; Court of Federal Claims Number 02-0992V

174. Sharon and Tim Scott on behalf of Colby Brennan Scott; Houston, Texas; Court of Federal Claims Number 02-0993V

175. Felica and David Ward on behalf of Morgan Elizabeth Ward; Lewisville, Texas; Court of Federal Claims Number 02-0994V

176. Cynthia and Kenneth Brown on behalf of Zachary Taylor Brown; Lewisville, Texas; Court of Federal Claims Number 02-0995V

177. Melissa and Norman Kuehn on behalf of Brandon Hilton Kuehn; Houston, Texas; Court of Federal Claims Number 02-0996V

178. Eileen and Michael O'Connell on behalf of Michael Joseph O'Connell; Webster, Texas; Court of Federal Claims Number 02-0997V

179. Jessica Owens on behalf of Jarrett Ross Schafer; Corsicana, Texas; Court of Federal Claims Number 02-0998V

180. Kendal and Jay Blackmon on behalf of Todd Christopher Blackmon; Fort Worth, Texas; Court of Federal Claims Number 02-0999V

181. Jacqueline and Mark Redding on behalf of Case Redding; New Orleans, Louisiana; Court of Federal Claims Number 02-1000V

182. Eugenia Collins on behalf of JaCora Nesbitt; Charleston, South Carolina; Court of Federal Claims Number 02-1002V

183. Jacqueline Degree on behalf of Keanna Degree; Charleston, South Carolina; Court of Federal Claims Number 02-1003V

184. Andrea Jordan on behalf of Alvarez Boyd; Charleston, South Carolina; Court of Federal Claims Number 02-1004V

185. Cynthia Sells on behalf of Marlesha Sells; Charleston, South Carolina; Court of Federal Claims Number 02-1005V

186. Keri Stevenson on behalf of Baylee Stevenson; Charleston, South Carolina; Court of Federal Claims Number 02-1006V

187. Tammy and Paul Lessick on behalf of Dean Lessick; Charleston, South Carolina; Court of Federal Claims Number 02-1007V

188. Christina Masters on behalf of Allison Butcher; Charleston, South Carolina; Court of Federal Claims Number 02-1008V

189. Lajaune and George Graves on behalf of Nyla Graves; Charleston, South Carolina; Court of Federal Claims Number 02-1009V

190. Radiah and Christopher Stewart on behalf of Elijah Stewart; Charleston, South Carolina; Court of Federal Claims Number 02-1010V

191. Beth Tobin on behalf of Lauren Tobin; Vienna, Virginia; Court of Federal Claims Number 02-1012V

192. Janeen and Joseph Herskovitz on behalf of Benjamin Herskovitz; Melbourne, Florida; Court of Federal Claims Number 02-1013V

193. Janine Pandolfino on behalf of Gianna Pandolfino; Framingham, Massachusetts; Court of Federal Claims Number 02-1014V

194. Julie and Craig Yanz on behalf of Zachary Yanz; Minneapolis, Minnesota; Court of Federal Claims Number 02-1015V

195. Lynette and Max Lambert on behalf of Abbigail Lambert, Deceased; Denton, Texas; Court of Federal Claims Number 02-1016V

196. Kellie and Anthony Korder on behalf of Courtney River Korder; Minneapolis, Minnesota; Court of Federal Claims Number 02-1017V

197. Stephanie and Daniel Bakke on behalf of Benjamin Bakke; Minneapolis, Minnesota; Court of Federal Claims Number 02-1018V

198. Sue and Ron Carey on behalf of Matthew Carey; Minneapolis, Minnesota; Court of Federal Claims Number 02-1019V

199. Gail and Mark Foreman on behalf of Christopher Foreman; Minneapolis, Minnesota; Court of Federal Claims Number 02-1020V

200. Judy and Luke Yurkovich on behalf of Brenden Yurkovich; Minneapolis, Minnesota; Court of Federal Claims Number 02-1021V

201. Kimberly Lambert; Covington, Louisiana; Court of Federal Claims Number 02-1022V

202. Kathleen Rose Murphy on behalf of Adam Joseph Rusch; Houston, Texas; Court of Federal Claims Number 02-1023V

203. Amanda Jo Wroblewski on behalf of Shane O'Connell, Jr.; Houston, Texas; Court of Federal Claims Number 02-1024V

204. Jamie and Alan Harshfield on behalf of Adison Harshfield; Houston, Texas; Court of Federal Claims Number 02-1025V

205. Nikki Leigh Horstmeyer on behalf of Tyler B. Germann; Houston, Texas; Court of Federal Claims Number 02-1026V

206. Pamela and Craig Corley on behalf of James Corley; Houston, Texas; Court of Federal Claims Number 02-1027V

207. Dionne Carter on behalf of Logan Carter; Houston, Texas; Court of Federal Claims Number 02-1028V

208. Linda and Jeffrey Brown on behalf of Terrell C. Brown; Houston, Texas; Court of Federal Claims Number 02-1029V

209. Mary Fields on behalf of Triniti Fields; Charleston, South Carolina; Court of Federal Claims Number 02-1034V

210. Gina Busolin on behalf of Christopher Busolin; Charleston, South Carolina; Court of Federal Claims Number 02-1035V

211. James McKenzie on behalf of Jahiya McKenzie; Charleston, South Carolina; Court of Federal Claims Number 02-1036V

212. Patricia and Bryan Easter on behalf of Patrick Easter; Charleston, South Carolina; Court of Federal Claims Number 02-1037V

213. Cheryl Kennedy on behalf of Darriaus Kennedy; Charleston, South Carolina; Court of Federal Claims Number 02-1038V

214. Amber and Bryan Trimpe on behalf of Gabriel Trimpe; Charleston, South Carolina; Court of Federal Claims Number 02-1039V

215. Leslie and Joe Davis on behalf of Joel Davis; Charleston, South Carolina; Court of Federal Claims Number 02-1040V

216. Janina and Leszek Olsen on behalf of Jan Olsen; Temecula, Florida; Court of Federal Claims Number 02-1043V

217. Delya Johnson on behalf of Quran Johnson; Salisbury, North Carolina; Court of Federal Claims Number 02-1044V

218. Beverly Watson on behalf of Keith Bernard Harris; Chicago, Illinois; Court of Federal Claims Number 02-1045V

219. Malka and Brian Asch on behalf of Ariel Michael Asch; Cedarhurst, New York; Court of Federal Claims Number 02-1046V

220. Leah Dow Standley on behalf of Addison Morris Standley; Winter Park, Florida; Court of Federal Claims Number 02-1047V

221. Angelia McCoy Allison on behalf of Robbiana La'Shae Harris; Demopolis, Alabama; Court of Federal Claims Number 02-1048V

222. Charles Jones and Tammy Roberson on behalf of Travis William Jones; Anniston, Alabama; Court of Federal Claims Number 02-1049V

223. Cori Katherine Harris on behalf of Raymond Ryan Harris; Quincy, Massachusetts; Court of Federal Claims Number 02-1050V

224. Dana Butler on behalf of Reagan Alicia Butler; Brooklyn, New York; Court of Federal Claims Number 02-1051V

225. Esther Hall; Thornton, Colorado; Court of Federal Claims Number 02-1052V

226. Ernesto Reyes on behalf of Isamar Reyes; Temecula, California; Court of Federal Claims Number 02-1053V

227. Sheri and Jeffrey Denbaugh on behalf of Julia Denbaugh; Temecula, California; Court of Federal Claims Number 02-1054V

228. Abigail and Christopher Smith on behalf of Kirsten Nicole Smith; Temecula, California; Court of Federal Claims Number 02-1055V

229. Elizabeth Collet on behalf of William Collet; Boston, Massachusetts; Court of Federal Claims Number 02-1056V

230. Golda Zafrani on behalf of Isaac Zafrani; Boston, Massachusetts; Court of Federal Claims Number 02-1057V

231. Makayla Zarker on behalf of Wendy Lynn; Boston, Massachusetts; Court of Federal Claims Number 02-1058V

232. Theresa and Steven Meadows on behalf of Tyler Steven Meadows; Melbourne, Florida; Court of Federal Claims Number 02-1059V

233. Jean and Frank Krumenacker on behalf of Frank Krumenacker; New York, New York; Court of Federal Claims Number 02-1060V

234. Vivian Leites on behalf of Addison Nicholas Leites; New York, New York; Court of Federal Claims Number 02-1061V

235. Stacey and Lawrence Wolff on behalf of Jordan Wolff; New York, New York; Court of Federal Claims Number 02-1062V

236. Marie and John Tonini on behalf of Nicholas Tonini; New York, New York; Court of Federal Claims Number 02-1063V

237. Michele and Jeffrey Horvath on behalf of Joshua Horvath; New York, New York; Court of Federal Claims Number 02-1064V

238. Cynthia Gowins on behalf of Brandon Gowins; Vienna, Virginia; Court of Federal Claims Number 02-1065V

239. Erica Egan on behalf of Bryan Mueller; Vienna, Virginia; Court of Federal Claims Number 02-1066V

240. Quentin Smith and Victoria Peay on behalf of Antoinette Y. Smith; Baltimore, Maryland; Court of Federal Claims Number 02-1067V

241. Sabina and Phillip Degaetano on behalf of Nicholas Degaetano; Great Neck, New York; Court of Federal Claims Number 02-1068V

242. Terry and Thomas Thackeray on behalf of Lauren Thackeray; Great Neck, New York; Court of Federal Claims Number 02-1069V

243. Margaret King on behalf of Marquell Johnson; Great Neck, New York; Court of Federal Claims Number 02-1070V

244. Troy Soper and Marie Martin on behalf of Ryan Soper; Great Neck, New York; Court of Federal Claims Number 02-1071V

245. Laura Thomas on behalf of Samantha Thomas; Great Neck, New York; Court of Federal Claims Number 02-1072V

246. Victoria and Luke Brunson on behalf of Zachary Boggs Brunson; Chamblee, Georgia; Court of Federal Claims Number 02-1073V

247. Gary Champagne on behalf of Kevin Champagne; Culloden, Georgia; Court of Federal Claims Number 02-1074V

248. Suzanne and Richard Harvey on behalf of Bryceson Harvey; Lake Park, Georgia; Court of Federal Claims Number 02-1075V

249. Laura and Ricky Driver on behalf of Ricky Elbert Davis, Jr.; Salisbury, North Carolina; Court of Federal Claims Number 02-1081V

250. Cynthia Davis on behalf of Layne Patrick Davis; Salisbury, North Carolina; Court of Federal Claims Number 02-1082V

251. Carolyn Crowsom Hollar on behalf of Beau Harris Crowsom; Salisbury, North Carolina; Court of Federal Claims Number 02-1083V

252. Robin and Mark Arnold on behalf of Jonathan Arnold; Salisbury, North Carolina; Court of Federal Claims Number 02-1084V

253. Laura and Scott Bono on behalf of Jackson Bono; Salisbury, North Carolina; Court of Federal Claims Number 02-1085V

254. Leeann and Michael Calkins on behalf of Patricia Calkins; Charleston, South Carolina; Court of Federal Claims Number 02-1086V

255. Leeann and Michael Calkins on behalf of Jessica Calkins; Charleston, South Carolina; Court of Federal Claims Number 02-1087V

256. Trenesha McClary on behalf of Nakira Atkinson; Charleston, South Carolina; Court of Federal Claims Number 02-1088V

257. Drakoulis and Athanasios Petsos on behalf of Drakoulis Christodoulos Petsos; Hamilton, New Jersey; Court of Federal Claims Number 02-1089V

258. Katherine and Robert Green on behalf of Alan Chandler Green; Erie, Pennsylvania; Court of Federal Claims Number 02-1090V

259. Kerriann and Jeffrey Adler on behalf of Jeffrey Raymond Adler, II; Fullerton, California; Court of Federal Claims Number 02-1091V

260. Christie Lynn Haggard and Edgar Paul Conner on behalf of Sean Patrick Conner; Nashville, Tennessee; Court of Federal Claims Number 02-1092V

261. Patricia and Michael Harvan on behalf of Luke Alexander Harvan; Montgomeryville, Pennsylvania; Court of Federal Claims Number 02-1093V

262. Horacio Correa on behalf of Juliana Correa; Vienna, Virginia; Court of Federal Claims Number 02-1097V

263. Cynthia Darling on behalf of Garrett Darling; Vienna, Virginia; Court of Federal Claims Number 02-1098V

264. John Jodsaas on behalf of Johleen Jodsaas; Vienna, Virginia; Court of Federal Claims Number 02-1099V

265. Tammy Henschel on behalf of Noah Wade Henschel; Boston, Massachusetts; Court of Federal Claims Number 02-1100V

266. Nancy and Troy Morris on behalf of Tiston Levi Morris; Vidalia, Georgia; Court of Federal Claims Number 02-1101V

267. Tashia and Robert Smalls on behalf of Quentin Josef Smalls; Flushing, New York; Court of Federal Claims Number 02-1102V

268. Christine and Clark Parr on behalf of Blake Christopher Parr; Denver, Colorado; Court of Federal Claims Number 02-1103V

269. Lori and Jeffrey Yanuchi on behalf of Brooks Jordan Yanuchi; Fairbanks, Alaska; Court of Federal Claims Number 02-1104V

270. Joan and Thomas Lutz on behalf of Thomas Lutz; Libertyville, Illinois; Court of Federal Claims Number 02-1105V

271. Leila and Michael Voss on behalf of Jacob Michael Voss; Eureka, California; Court of Federal Claims Number 02-1106V

272. Stacy and Michael Vivona on behalf of Nicholas George Vivona; Levittown, New York; Court of Federal Claims Number 02-1107V

273. David Diconza; Boston, Massachusetts; Court of Federal Claims Number 02-1109V

274. William D. Fichera; Boston, Massachusetts; Court of Federal Claims Number 02-1110V

275. Mark Tremblay on behalf of Oliver Tremblay; Boston, Massachusetts; Court of Federal Claims Number 02-1111V

276. Nadine Fitzgerald on behalf of Nya Fitzgerald; Boston, Massachusetts; Court of Federal Claims Number 02-1112V

277. Carolyn Brown on behalf of Paige Brown; Boston, Massachusetts; Court of Federal Claims Number 02-1113V

278. Elaine Williams on behalf of Nicholas Lemon; Boston, Massachusetts; Court of Federal Claims Number 02-1114V

279. Raymond Laspada on behalf of Tyler Laspada; Boston, Massachusetts; Court of Federal Claims Number 02-1115V

280. Donna Cooper on behalf of Jonathan Cooper; Boston, Massachusetts; Court of Federal Claims Number 02-1116V

281. David Schacter on behalf of Jacob Schacter; Boston, Massachusetts; Court of Federal Claims Number 02-1117V

282. Thomas Hoxie on behalf of Kyle Hoxie; Boston, Massachusetts; Court of Federal Claims Number 02-1118V

283. Sharon Ackerman on behalf of Frederick M. Ackerman, III; Morganville, New Jersey; Court of Federal Claims Number 02-1119V

284. Lynn and Michael Bollish on behalf of Brandon Michael Bollish; Dallas, Texas; Court of Federal Claims Number 02-1120V

285. Roberta Barton-Patino on behalf of George Patino; New Orleans, Louisiana; Court of Federal Claims Number 02-1121V

286. Jane and Kenneth Lang on behalf of Robert Michael Lang; Salisbury, North Carolina; Court of Federal Claims Number 02-1124V

287. Patricia and John Hamilton on behalf of Evan Hamilton; Salisbury, North Carolina; Court of Federal Claims Number 02-1125V

288. Valerie and Brent Koeval on behalf of Helen Koeval; Salisbury, North Carolina; Court of Federal Claims Number 02-1126V

289. Theresa and Tom Vollmer on behalf of Julia Madison Vollmer; Salisbury, North Carolina; Court of Federal Claims Number 02-1127V

290. O.C. and Teryl Dorham on behalf of Alexis Dorham; Aledo, Texas; Court of Federal Claims Number 02-1130V

291. Enrique Rodriguez on behalf of Jeremiah Rodriguez; Boston, Massachusetts; Court of Federal Claims Number 02-1131V

292. Victoria Cummings on behalf of Deanna Cummings; Vienna, Virginia; Court of Federal Claims Number 02-1132V

293. Nan Conlon; New Brunswick, New Jersey; Court of Federal Claims Number 02-1133V

294. Kelly Kerns on behalf of Andrew Kerns; Boston, Massachusetts; Court of Federal Claims Number 02-1137V

295. Elizabeth Pabey on behalf of Brandon Garcia; Boston, Massachusetts; Court of Federal Claims Number 02-1138V

296. Kimberly Gayon on behalf of Rafael Gayon; Boston, Massachusetts; Court of Federal Claims Number 02-1139V

297. Linda Chen on behalf of Jason Chen; Boston, Massachusetts; Court of Federal Claims Number 02-1140V

298. Tiffany Brassard on behalf of Kayden Brassard; Boston, Massachusetts; Court of Federal Claims Number 02-1141V

299. Jamie Blockinger on behalf of Aaron Blockinger; Boston, Massachusetts; Court of Federal Claims Number 02-1142V

300. Maria Cerrato on behalf of Brandon Cerrato; Boston, Massachusetts; Court of Federal Claims Number 02-1143V

301. Lavanda Palmer on behalf of Marcus Palmer; Boston, Massachusetts; Court of Federal Claims Number 02-1144V

302. Anthony Thompson on behalf of James Thompson; Boston, Massachusetts; Court of Federal Claims Number 02-1145V

303. Sherone Sader on behalf of Shaun Sader; Boston, Massachusetts; Court of Federal Claims Number 02-1146V

304. Hillari O'Brien on behalf of Nicholas O'Brien; Boston, Massachusetts; Court of Federal Claims Number 02-1147V

305. Pamela Nichol on behalf of Anthony Nichol; Boston, Massachusetts; Court of Federal Claims Number 02-1148V

306. Steven Miller on behalf of Danielle Miller; Boston, Massachusetts; Court of Federal Claims Number 02-1149V

307. Cynda Mayfield on behalf of Jayson Mayfield; Boston, Massachusetts; Court of Federal Claims Number 02-1150V

308. Kelly Kerns on behalf of Daniel Kerns; Boston, Massachusetts; Court of Federal Claims Number 02-1151V

309. Jodi Vanmeter on behalf of Ryan Vanmeter; Boston, Massachusetts; Court of Federal Claims Number 02-1152V

310. Veronica Lynch on behalf of Yancey James Lynch; Great Neck, New York; Court of Federal Claims Number 02-1153V

311. Yolanda and Alex Orozco on behalf of Alex Christopher Orozco, Jr.; Phoenix, Arizona; Court of Federal Claims Number 02-1154V

312. Antoinette and Timothy Leonard on behalf of Tyler Leonard; New Orleans, Louisiana; Court of Federal Claims Number 02-1155V

313. Brandy and Clint Guyban on behalf of Matthew Guyban; New Orleans, Louisiana; Court of Federal Claims Number 02-1156V

314. Dawn and Daryl Sam on behalf of Daryl Sam, Jr.; New Orleans, Louisiana; Court of Federal Claims Number 02-1157V

315. Quotisha Sharper on behalf of Emile Clay; New Orleans, Louisiana; Court of Federal Claims Number 02-1158V

316. Addie M. Ryman on behalf of Anthony Marcelle; New Orleans, Louisiana; Court of Federal Claims Number 02-1159V

317. Andrea Chertkow on behalf of Tyler Chertkow; San Diego, California; Court of Federal Claims Number 02-1161V

318. Cori Padilla and Julio Marquez on behalf of Antonio C. Marquez, Deceased; Aurora, Colorado; Court of Federal Claims Number 02-1162V

319. Deborah Laughter on behalf of Caleb Jamison Adams; Salisbury, North Carolina; Court of Federal Claims Number 02-1164V

320. Julie Ann Teat on behalf of John Christian Arney; Salisbury, North Carolina; Court of Federal Claims Number 02-1165V

321. Debra and Carlos Owens on behalf of Sean Owens; Salisbury, North Carolina; Court of Federal Claims Number 02-1166V

322. Tracey and Alton Parker on behalf of Alton P. Parker, Jr.; Salisbury, North Carolina; Court of Federal Claims Number 02-1167V

323. Amy and David Long on behalf of Walker Long; Salisbury, North Carolina; Court of Federal Claims Number 02-1168V

324. Shelley and Frederick Kraft on behalf of Alexander James Kraft; Salisbury, North Carolina; Court of Federal Claims Number 02-1169V

325. Lucinda McKinnon on behalf of Verontina McKinnon; Salisbury, North Carolina; Court of Federal Claims Number 02-1170V

326. Kimberly and Charles Kuhn on behalf of Ethan Kuhn; Houston, Texas; Court of Federal Claims Number 02-1171V

327. Alberto Puebla and Juanita Flores on behalf of Jared Allen Puebla; Houston, Texas; Court of Federal Claims Number 02-1172V

328. Samuel Briseno on behalf of Brandon Briseno; Houston, Texas; Court of Federal Claims Number 02-1173V

329. Lisa and Stephen Salbato on behalf of Nicholas Salbato; Houston, Texas; Court of Federal Claims Number 02-1174V

330. Donna and Jeff Popp on behalf of Joshua Michael Popp; Cincinnati, Ohio; Court of Federal Claims Number 02-1175V

331. Wendy and James Akers on behalf of James Cole Akers; Dobson, North Carolina; Court of Federal Claims Number 02-1176V

332. Brigitte and Larry Atkinson on behalf of Jake Alex Atkinson; North Virginia, Minnesota; Court of Federal Claims Number 02-1177V

333. Nancy and Nicholas Sierchio on behalf of David Cole Sierchio; Denville, New Jersey; Court of Federal Claims Number 02-1178V

334. Margaret and Eric Heitz on behalf of Christopher Thaddeus Pustelak; Berwyn, Illinois; Court of Federal Claims Number 02-1179V

335. Donna and Jeff Popp on behalf of Justin Dean Popp; Cincinnati, Ohio; Court of Federal Claims Number 02-1180V

336. Betzaida and Moises Colon on behalf of Gabriel Moises Colon; Fort Campbell, Kentucky; Court of Federal Claims Number 02-1181V

337. Jennifer and Aaron Donatella on behalf of Bradly Steven Donatella; Youngstown, Ohio; Court of Federal Claims Number 02-1182V

338. Frances and Danile Aull on behalf of William Daniel Blake Aull, Deceased; Owensboro, Kentucky; Court of Federal Claims Number 02-1183V

339. Theresa (McDohough) Alwuhush on behalf of Adam A. Alwuhush; Alexandria, Virginia; Court of Federal Claims Number 02-1187V

340. Senait Hagos on behalf of Muna Awlaki; Alexandria, Virginia; Court of Federal Claims Number 02-1188V

341. Tracey Coleman on behalf of Abigail M. Coleman; Alexandria, Virginia; Court of Federal Claims Number 02-1189V

342. Judith Nicosia on behalf of Michael J. Nicosia; Alexandria, Virginia; Court of Federal Claims Number 02-1190V

343. Angela M. Green on behalf of Geoffrey H. Baskerville; Alexandria, Virginia; Court of Federal Claims Number 02-1191V

344. Deborah J. Fuller on behalf of Christopher A. Brooks, Jr.; Alexandria, Virginia; Court of Federal Claims Number 02-1192V

345. Trena M. Fisher on behalf of Cody R. Fisher; Alexandria, Virginia; Court of Federal Claims Number 02-1193V

346. Shanice (Holmes) Golden on behalf of Shamont (Holmes) Golden; Alexandria, Virginia; Court of Federal Claims Number 02-1194V

347. Libra Orange on behalf of Daron J. Lightfoot; Alexandria, Virginia; Court of Federal Claims Number 02-1195V

348. Althea and James McIver on behalf of James E. McIver, III; Alexandria, Virginia; Court of Federal Claims Number 02-1196V

349. Brenda Randolph on behalf of Decarol L. Randolph; Alexandria, Virginia; Court of Federal Claims Number 02-1197V

350. Zabrina Ward on behalf of Meiko G. Ward; Alexandria, Virginia; Court of Federal Claims Number 02-1198V

351. Sandra and James Waters on behalf of Sean P. Waters; Vienna, Virginia; Court of Federal Claims Number 02-1200V

352. Trisha Cuce on behalf of Lindsay Cuce; Vienna, Virginia; Court of Federal Claims Number 02-1201V

353. Sherry Williford on behalf of Kyle Williford; Vienna, Virginia; Court of Federal Claims Number 02-1202V

354. Ted Jones, III; Vienna, Virginia; Court of Federal Claims Number 02-1203V

355. Cindy Zortman; Vienna, Virginia; Court of Federal Claims Number 02-1204V

356. Nancy and Charles Nucciarone on behalf of Anthony M. Nucciarone; Alexandria, Virginia; Court of Federal Claims Number 02-1208V

357. Julie Reber Duffield on behalf of Jessica A. Duffield; Alexandria, Virginia; Court of Federal Claims Number 02-1209V

358. Richard Green; Sicklerville, New Jersey; Court of Federal Claims Number 02-1210V

359. Lisa and Walter Graves on behalf of Hayley Nicole Graves, Deceased; Grapevine, Texas; Court of Federal Claims Number 02-1211V

360. Tracy and Scott Sugg on behalf of Lulianna Sugg; El Dorado, Arkansas; Court of Federal Claims Number 02-1213V

361. Kelly and Michael Vickers on behalf of Michael Zachary Vickers; Gonzales, Louisiana; Court of Federal Claims Number 02-1214V

362. Leslie and Jason Swink on behalf of Mark Swink; Melbourne, Florida; Court of Federal Claims Number 02-1215V

363. Rani Stevens on behalf of Corinthia Shalise Watkins, Deceased; Longview, Texas; Court of Federal Claims Number 02-1223V

364. Heather and James Turner on behalf of Taylor B. Ivy; Melbourne, Florida; Court of Federal Claims Number 02-1224V

365. Jacqueline and Scott Miller on behalf of Joel S. Miller; Melbourne, Florida; Court of Federal Claims Number 02-1225V

366. Wilmer Price on behalf of Joshua Price; Vienna, Virginia; Court of Federal Claims Number 02-1226V

367. Meagan O'Brien on behalf of Kelly O'Brien; Vienna, Virginia; Court of Federal Claims Number 02-1227V

368. Janie and Nathan Custer on behalf of Ethan Custer; Kansas City, Missouri; Court of Federal Claims Number 02-1229V

369. Meredith and Terry Hughes on behalf of Terri M. Hughes; Houston, Texas; Court of Federal Claims Number 02-1230V

370. Christine Taylor on behalf of Samuel Taylor; Houston, Texas; Court of Federal Claims Number 02-1231V

371. Lynn and Walter Kellogg on behalf of Krista Kellogg; Houston, Texas; Court of Federal Claims Number 02-1232V

372. Onna Elder on behalf of Jordan Elder; Boston, Massachusetts; Court of Federal Claims Number 02-1233V

373. Kimberly Wallace on behalf of Hunter Wood; Boston, Massachusetts; Court of Federal Claims Number 02-1234V

374. Delos Larson on behalf of Alexis Larson; Boston, Massachusetts; Court of Federal Claims Number 02-1235V

375. William Bullington on behalf of Ethan Bullington; Boston, Massachusetts; Court of Federal Claims Number 02-1236V

376. Colleen Allen on behalf of Alexa Allen; Boston, Massachusetts; Court of Federal Claims Number 02-1237V

377. Patricia Byers on behalf of Cole Byers; Boston, Massachusetts; Court of Federal Claims Number 02-1238V

378. Michelle Galliano on behalf of Brennyn Galliano; Boston, Massachusetts; Court of Federal Claims Number 02-1239V

379. Betsy Tipps on behalf of Dustin Hardebeck; Boston, Massachusetts; Court of Federal Claims Number 02-1240V

380. Arlene Marshall on behalf of Clyde L. Curtis; Alexandria, Virginia; Court of Federal Claims Number 02-1241V

381. Janie L. Davis on behalf of Caleb A. Davis; Alexandria, Virginia; Court of Federal Claims Number 02-1242V

382. Lou Edna Stevens on behalf of Tyrone Stevens, Jr.; Alexandria, Virginia; Court of Federal Claims Number 02-1243V

383. Regina Vance on behalf of Korey D. Vance; Alexandria, Virginia; Court of Federal Claims Number 02-1244V

384. Carmen K. Harris on behalf of Antonyus R. Harris; Alexandria, Virginia; Court of Federal Claims Number 02-1245V

385. Nichol Riley on behalf of Nicholas P. Riley; Alexandria, Virginia; Court of Federal Claims Number 02-1246V

386. Aujorae Lance on behalf of Tamiji Lance; Alexandria, Virginia; Court of Federal Claims Number 02-1247V

387. Mona Moody-Watson and Louis Watson on behalf of Sarina Watson; Alexandria, Virginia; Court of Federal Claims Number 02-1248V

388. Kimberly and Matthew O'Malley on behalf of Mark Joseph O'Malley; Morristown, New Jersey; Court of Federal Claims Number 02-1258V

389. Todd Altschul on behalf of April Altschul; Beaumont, Texas; Court of Federal Claims Number 02-1260V

390. Gabrielle and Sergio Nanez on behalf of Karina Isabel Nanez; El Paso, Texas; Court of Federal Claims Number 02-1261V

391. Debbie L. Hadden on behalf of Lessia Lynn Hadden; Hephzibah, Georgia; Court of Federal Claims Number 02-1262V

392. Michelle Mitchell on behalf of Daulton Mitchell; Boston, Massachusetts; Court of Federal Claims Number 02-1264V

393. Gwynne Cotter on behalf of Caleb Cotter; Boston, Massachusetts; Court of Federal Claims Number 02-1265V

394. Lori and James Cowan on behalf of Matthew Cowan; Vienna, Virginia; Court of Federal Claims Number 02-1266V

395. Cheryl Pangborn on behalf of Mason Pangborn; Vienna, Virginia; Court of Federal Claims Number 02-1267V

396. Leslie Byler on behalf of Trevor McCabe; Vienna, Virginia; Court of Federal Claims Number 02-1268V

397. Marcy Kelly on behalf of Dylan Kelly; Vienna, Virginia; Court of Federal Claims Number 02-1269V

398. Annette Cvengros on behalf of Aaron Cvengros; Vienna, Virginia; Court of Federal Claims Number 02-1270V

399. Michael Simmons on behalf of Stephen Simmons; Vienna, Virginia; Court of Federal Claims Number 02-1271V

400. Rebecca and Jack Sytsema on behalf of Nicholas Sytsema; Dallas, Texas; Court of Federal Claims Number 02-1279V

401. Jeanne and Brian Rippentrop on behalf of Anthony Thomas Rippentrop; Dallas, Texas; Court of Federal Claims Number 02-1280V

402. Dana and Lee Halvorson on behalf of Robyn Leigh Halvorson; Dallas, Texas; Court of Federal Claims Number 02-1281V

403. Margaret Springer on behalf of Jonah Springer; Boston, Massachusetts; Court of Federal Claims Number 02-1284V

404. Vera A. Easter on behalf of Jordan Delaney Easter; Dallas, Texas; Court of Federal Claims Number 02-1285V

Dated: January 28, 2003.
Elizabeth M. Duke,
Administrator.

[FR Doc. 03-2658 Filed 2-4-03; 8:45 am]

BILLING CODE 4165-15-P